DEPARTMENT OF THE INTERIOR

Bureau of Land Management

[WO-220-05-1020-JA-VEIS

Notice of Extension of the Public Comment Period for the Draft Programmatic Environmental Impact Statement and Environmental Report for Vegetation Treatments on Public Lands Administered by the Bureau of Land Management in the Western United States, Including Alaska

AGENCY: Bureau of Land Management, Interior.

ACTION: Notice of extension.

SUMMARY: The Bureau of Land Management (BLM) announces an extension of the public comment on the Draft Programmatic Environmental Impact Statement and Environmental Report for Vegetation Treatments on Public Lands Administered by the Bureau of Land Management in the Western United States, Including Alaska. The draft national programmatic EIS and environmental report on vegetation treatments involves the use of chemical herbicides and other methods on the public lands administered by BLM in 17 western states, including Alaska.

DATES: The original notice published in the Federal Register on November 10, 2005 [70 FR 68474] provided for a comment period to end on January 9, 2006. BLM is extending the comment period until February 10, 2006.

ADDRESSES: Written comments should be sent to: Project Manager, National Vegetation EIS, BLM Nevada State Office, P.O. Box 12000, Reno, NV 89520-0006. Comments may also be sent by e-mail to vegeis@nv.blm.gov.

FOR FURTHER INFORMATION CONTACT: Brian Amme, Project Manager, Bureau of Land Management, P.O. Box 12000, Reno, Nevada 89520-0006; e-mail brian_amme@nv.blm.gov; telephone, (775) 861-6645.

SUPPLEMENTARY INFORMATION: The original Notice of Availability published in the Federal Register on November 10, 2005 [70 FR 68474] provided for comments on the Draft EIS to be received through January 9, 2006. Several individuals and groups have requested an extension in the comment period. BLM has decided to act in accordance to individual and group requests, therefore, comments on the Draft EIS relevant to the review of the proposed EIS will now be accepted through February 10, 2006.

Dated: January 6, 2006.
Ed Shepard,
Assistant Director.

[FR Doc. 06-441 Filed 1-17-06; 8:45 am]

BILLING CODE 4310-84-M